UNITED STATES POSTAL SERVICE BOARD OF GOVERNORS

Sunshine Act Meeting; Notification of Items Added to Meeting Agenda

Date of Meeting: September 11, 2006.

Status: Closed.

Previous Announcement: 71 FR 52591, September 6, 2006.

Addition: Postal Rate Commission Opinion and Recommended Decision in Docket No. MC2006-5, Periodicals Nominal Rate Minor Classification Change. At its closed meeting on September 11, 2006, the Board of Governors of the United States Postal Service voted unanimously to add this item to the agenda of its closed meeting and that no earlier announcement was possible. The General Counsel of the United States Postal Service certified that in her opinion discussion of these items could be properly closed to public observation.

FOR FURTHER INFORMATION CONTACT: Wendy A. Hocking, Secretary of the Board, U.S. Postal Service, 475 L'Enfant Plaza, SW., Washington, DC 20260-1000.

Wendy A. Hocking,
Secretary.

[FR Doc. 06-8415 Filed 9-27-06; 4:13 pm]

BILLING CODE 7710-12-M